DEPARTMENT OF AGRICULTURE

Forest Service

Transfer of Land to Forest Service

AGENCY: Forest Service, USDA.

ACTION: Notice of land transfer.

SUMMARY: On January 13, 2010, the Deputy Administrator of the Farm Service Agency, U.S. Department of Agriculture, and on March 16, 2010, the Deputy Chief of the Forest Service, U.S. Department of Agriculture, respectively signed a land transfer agreement transferring administrative jurisdiction of certain Federally owned lands in the Commonwealth of Puerto Rico from the Farm Service Agency to the Forest Service. This administrative transfer is authorized by Section 354 of the Consolidated Farm and Rural Development Act (Title 7 U.S.C. 2002).

Pursuant to the land transfer agreement between the Farm Service Agency and the Forest Service, the approximately 432.14 acres referenced in this notice are hereafter to be managed as components of the National Forest System under the administrative jurisdiction of the Forest Service.

DATES: This notice is effective August 27, 2010.

FOR FURTHER INFORMATION CONTACT: Louisa Herrera, National Title Claims Program Manager, Lands and Realty Management, USDA, Forest Service, (202) 205-1255.

SUPPLEMENTARY INFORMATION: The land transfer is authorized by Title 7, United States Code, section 2002, in that the lands have special management importance and are environmentally sensitive within the Jobos Bay National Estuarine Research Reserve Watershed and the core segment of the Karst Belt. In accordance with Title 7, United States Code, section 2002(b), the requisite conditions of public notices of the transfer have been met by the Farm Service Agency, including consultation with the Governor of Puerto Rico and with elected municipal officials.

The land transfer consists of two separate parcels of land with one parcel consisting of two tracts and the other parcels consisting of three tracts, described as follows:

1. That real property acquired by the USDA-FSA through a Deed of Judicial Sale number four hundred ninety-five (495), executed in San Juan, Puerto Rico, on October twenty-one of nineteen ninety-seven (October 21, 1997), before Notary Public Miquel Bauza Rolon. Said property being USDA-FSA Property #63-006-00044 (Montes-Mandes); being comprised of a tract of 214.208 cuerdas, a tract of 106.04 cuerdas, and a tract of 36.70 cuerdas; and being located at PR# 712, km. 10.5 Int. and PR# 7712, Palo Sector, Carmen Ward, Guayama, PR.

2. That real property acquired by the USDA-FSA through a Deed of Judicial Sale number three (3), executed in San Juan, Puerto Rico, on July eleventh of nineteen ninety-four (July 11, 1994), before Notary Public Bolivar Dones Rivera, pending for recording at the date at page #402, diary #284 of the Register of Property, Section of Manati. Said property being USDA-FSA Property #63-031-00114 (Guevara-Delgado); being comprised of a tract of 20.00 cuerdas and a tract of 68.00 cuerdas; and being located at PR# 667, km. 1.8, Int. Florida Afuera Ward, Florida, PR.

Dated: August 11, 2010.
Joel Holtrop,
Deputy Chief, NFS.

[FR Doc. 2010-21361 Filed 8-26-10; 8:45 am]

BILLING CODE 3410-11-P